DEPARTMENT OF JUSTICE

Notice of Lodging of Consent Decree Between the United States of America and Blue Tee Corp., Under CERCLA

Under 28 CFR 50.7, notice is hereby given that on December 12, 2006, a proposed Consent Decree (Consent Decree) with Blue Tee Corp., in the case of United States v. Blue Tee Corp., Civil Action No. 06-5128-CV-SW-REL, has been lodged concurrently with the filing of a complaint in the United States District Court for the Western District of Missouri.

This Consent Decree resolves the United States' claims against Blue Tee Corp. under Sections 106 and 107 of CERCLA, 42 U.S.C. 9606 and 9607, at the Granby Subdistrict of the Newton County Mine Tailings Superfund Site in Newton County, Missouri (Granby Subdistrict). Under the terms of the Consent Decree Blue Tee shall: (1) Pay to the United States $198,645.11 for past response costs, (2) pay future response costs as defined in the consent decree, and (3) implement a removal action to provide a safe and permanent drinking water source for residents affected by releases and threatened releases of hazardous substances at and from the Granby Subdistrict.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Blue Tee Corp., Civil Action No. 06-5128-CV-SW-REL, D.J. Ref. 90-11-2-07088/1.

The Consent Decree may be examined at the Office of the United States Attorney, Western District of Missouri, Charles Evans Whittaker Courthouse, 400 East Ninth Street, Room 5510, Kansas City, Missouri 64106, and at the Environmental Protection Agency, Region 7, 901 N. 5th Street, Kansas City, Kansas 66101. During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the United States Treasury for payment.

Robert E. Maher, Jr.,
Assistant Section Chief, Environmental Enforcement Section, Environment and Natural Resources Division, United States Department of Justice.

[FR Doc. 06-9790 Filed 12-20-06; 8:45 am]

BILLING CODE 4410-15-M